DEPARTMENT OF ENERGY

Federal Energy Regulatory Commission

Combined Notice of Filings #1

Take notice that the Commission received the following electric corporate filings:

Docket Numbers: EC20-26-000.

Applicants: Krayn Wind LLC, Cambria Wind, LLC.

Description: Joint Application for Authorization Under Section 203 of the Federal Power Act, et al. of Krayn Wind LLC, et al.

Filed Date: 12/19/19.

Accession Number: 20191219-5337.

Comments Due: 5 p.m. ET 1/9/20.

Take notice that the Commission received the following electric rate filings:

Docket Numbers: ER10-2806-004; ER10-2818-004; ER10-2847-004; ER14-963-004.

Applicants: TransAlta Energy Marketing (U.S.) Inc., TransAlta Energy Marketing Corporation, TransAlta Centralia Generation, LLC, TransAlta Wyoming Wind LLC.

Description: Triennial Market Power Update Analysis for Northwest Region of the TransAlta Northwest MBR Sellers, et al.

Filed Date: 12/19/19.

Accession Number: 20191219-5280.

Comments Due: 5 p.m. ET 2/18/20.

Docket Numbers: ER10-3079-016; ER11-2539-006; ER11-2540-006; ER11-2542-006.

Applicants: Tyr Energy, LLC, Plains End, LLC, Plains End II, LLC, Rathdrum Power, LLC.

Description: Updated Market Power Analysis for Northwest Region of Tyr Energy, LLC, et al.

Filed Date: 12/20/19.

Accession Number: 20191220-5104.

Comments Due: 5 p.m. ET 2/18/20.

Docket Numbers: ER11-2154-010.

Applicants: Twin Eagle Resource Management, LLC.

Description: Triennial Market Power Update for the Southwest Region of Twin Eagle Resource Management, LLC.

Filed Date: 12/19/19.

Accession Number: 20191219-5274.

Comments Due: 5 p.m. ET 2/18/20.

Docket Numbers: ER16-355-003; ER16-141-005; ER15-255-004; ER10-2032-008; ER10-2033-008; ER15-190-011; ER12-2313-005; ER10-1330-007; ER18-2465-001; ER18-2466-001; ER19-2343-002; ER17-2336-005.

Applicants: Colonial Eagle Solar, LLC, Conetoe II Solar, LLC, Duke Energy Beckjord Storage, LLC, Duke Energy Kentucky, Inc., Duke Energy Ohio, Inc., Duke Energy Renewable Services, LLC, Laurel Hill Wind Energy, LLC, North Allegheny Wind, LLC, Federal Way Powerhouse LLC, Potter Road Powerhouse LLC, 2018 ESA Project Company, LLC, Shoreham Solar Commons LLC.

Description: Triennial Market Power Update for the Northeast Region of Duke MBR Sellers.

Filed Date: 12/20/19.

Accession Number: 20191220-5165.

Comments Due: 5 p.m. ET 2/18/20.

Docket Numbers: ER19-2305-000.

Applicants: Valencia Power, LLC.

Description: Supplement to June 28, 2019 Valencia Power, LLC Updated Market Power Analysis for the SW Region.

Filed Date: 12/20/19.

Accession Number: 20191220-5148.

Comments Due: 5 p.m. ET 1/10/20.

Docket Numbers: ER19-2707-002; ER10-2822-016; ER16-1238-003; ER16-1250-008; ER17-1392-003; ER10-3158-009; ER12-308-009; ER10-3162-009; ER10-3161-009; ER17-1242-002.

Applicants: Poseidon Wind, LLC, Atlantic Renewable Projects II LLC, Avangrid Arizona Renewables, LLC, Avangrid Renewables, LLC, El Cabo Wind LLC, Dillon Wind LLC, Manzana Wind LLC, Mountain View Power Partners III, LLC, Shiloh I Wind Project, LLC, Tule Wind LLC.

Description: Notice of Change in Status of Poseidon Wind, LLC and the Avangrid Southwest MBR Sellers.

Filed Date: 12/19/19.

Accession Number: 20191219-5275.

Comments Due: 5 p.m. ET 1/9/20.

Docket Numbers: ER20-647-000.

Applicants: Midcontinent Independent System Operator, Inc.

Description: § 205(d) Rate Filing: 2019-12-19_MISO-PJM JOA revisions on Constraint Relaxation to be effective 2/18/2020.

Filed Date: 12/19/19.

Accession Number: 20191219-5211.

Comments Due: 5 p.m. ET 1/9/20.

Docket Numbers: ER20-648-000.

Applicants: PJM Interconnection, L.L.C.

Description: § 205(d) Rate Filing: Revisions to the MISO-PJM JOA re Constraint Relaxation to be effective 2/18/2020.

Filed Date: 12/19/19.

Accession Number: 20191219-5214.

Comments Due: 5 p.m. ET 1/9/20.

Docket Numbers: ER20-649-000.

Applicants: AEP Energy Partners, Inc.

Description: § 205(d) Rate Filing: MBR Tariff, FERC Electric Tariff for Market Based Sales to be effective 1/1/2020.

Filed Date: 12/19/19.

Accession Number: 20191219-5216.

Comments Due: 5 p.m. ET 1/9/20.

Docket Numbers: ER20-650-000.

Applicants: El Paso Electric Company.

Description: § 205(d) Rate Filing: Service Agreement No. 325, Large Generator Interconnection Agreement with EDF to be effective 12/31/9998.

Filed Date: 12/19/19.

Accession Number: 20191219-5220.

Comments Due: 5 p.m. ET 1/9/20.

Docket Numbers: ER20-651-000.

Applicants: El Paso Electric Company.

Description: § 205(d) Rate Filing: Service Agreement No. 326, Long-Term Conditional Firm PTP Agreement with EDF to be effective. 12/21/2019.

Filed Date: 12/19/19.

Accession Number: 20191219-5221.

Comments Due: 5 p.m. ET 1/9/20.

Docket Numbers: ER20-652-000.

Applicants: Public Service Company of Oklahoma, Southwestern Electric Power Company.

Description: § 205(d) Rate Filing: Market-Based Rates Tariff to be effective 1/1/2020.

Filed Date: 12/19/19.

Accession Number: 20191219-5231.

Comments Due: 5 p.m. ET 1/9/20.

Docket Numbers: ER20-653-000.

Applicants: Great Bay Solar I, LLC.

Description: § 205(d) Rate Filing: Shared Facilities Agreement to be effective 12/20/2019.

Filed Date: 12/19/19.

Accession Number: 20191219-5232.

Comments Due: 5 p.m. ET 1/9/20.

Docket Numbers: ER20-654-000.

Applicants: MidAmerican Central California Transco, LLC.

Description: § 205(d) Rate Filing: Annual TRBAA Update to be effective 1/1/2020.

Filed Date: 12/20/19.

Accession Number: 20191220-5003.

Comments Due: 5 p.m. ET 1/10/20.

Docket Numbers: ER20-655-000.

Applicants: New York State Reliability Council, L.L.C.

Description: Informational Filing of the Revised Installed Capacity Requirement for the New York Control Area by the New York State Reliability Council, L.L.C.

Filed Date: 12/19/19.

Accession Number: 20191219-5276.

Comments Due: 5 p.m. ET 1/9/20.

Docket Numbers: ER20-656-000.

Applicants: Southwest Power Pool, Inc.

Description: § 205(d) Rate Filing: 1313R13 Oklahoma Gas and Electric Company NITSA NOA to be effective 12/1/2019.

Filed Date: 12/20/19.

Accession Number: 20191220-5015.

Comments Due: 5 p.m. ET 1/10/20.

Docket Numbers: ER20-657-000.

Applicants: Southwest Power Pool, Inc.

Description: § 205(d) Rate Filing: 1628R17 Western Farmers Electric Cooperative NITSA NOA to be effective 12/1/2019.

Filed Date: 12/20/19.

Accession Number: 20191220-5019.

Comments Due: 5 p.m. ET 1/10/20.

Docket Numbers: ER20-658-000.

Applicants: Fortistar North Tonawanda Inc.

Description: Compliance filing: Notice of Succession and New eTariff Baseline Tariff to be effective 12/21/2019.

Filed Date: 12/20/19.

Accession Number: 20191220-5020.

Comments Due: 5 p.m. ET 1/10/20.

Docket Numbers: ER20-659-000.

Applicants: New York Independent System Operator, Inc.

Description: Compliance filing: NYISO compliance filing re: Fast-Start Resources to be effective 12/31/9998.

Filed Date: 12/20/19.

Accession Number: 20191220-5087.

Comments Due: 5 p.m. ET 1/10/20.

Docket Numbers: ER20-660-000.

Applicants: Bolt Energy Marketing, LLC.

Description: Baseline eTariff Filing: Application for Market-Based Rate Authorization and Request for Waivers to be effective. 1/1/2020.

Filed Date: 12/20/19.

Accession Number: 20191220-5107.

Comments Due: 5 p.m. ET 1/10/20.

Docket Numbers: ER20-661-000.

Applicants: Tucson Electric Power Company.

Description: § 205(d) Rate Filing: Concurrences to Navajo Project Agreements to be effective 12/23/2019.

Filed Date: 12/20/19.

Accession Number: 20191220-5164.

Comments Due: 5 p.m. ET 1/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2019.
Kimberly D. Bose,
Secretary.

[FR Doc. 2019-28123 Filed 12-27-19; 8:45 am]

BILLING CODE 6717-01-P